DEPARTMENT OF COMMERCE.

International Trade Administration

[A-570-970]

Multilayered Wood Flooring from the People's Republic of China: Postponement of Preliminary Determination of Antidumping Duty Investigation

AGENCY: Import Administration, International Trade Administration, Department of Commerce

DATES: Effective Date: March 11, 2011.

FOR FURTHER INFORMATION CONTACT: John Hollwitz or Charles Riggle, AD/CVD Operations, Office 8, Import Administration, International Trade Administration, U.S. Department of Commerce, 14th Street and Constitution Avenue, NW., Washington, DC 20230; telephone: (202) 482-2336 or (202) 482-0650, respectively.

SUPPLEMENTARY INFORMATION:

Postponement of Preliminary Determination

On November 10, 2010, the Department of Commerce (“the Department”) initiated an antidumping duty investigation on multilayered wood flooring from the People's Republic of China.¹ The notice of initiation stated that, unless postponed, the Department would issue its preliminary determination no later than 140 days after the date of issuance of the initiation, in accordance with section 733(b)(1)(A) of the Tariff Act of 1930, as amended (“the Act”). The preliminary determination is currently due no later than March 30, 2011.

¹ See Multilayered Wood Flooring from the People's Republic of China: Initiation of Antidumping Duty Investigation, 75 FR 70714 (November 18, 2010).

On March 3, 2011, the Coalition for American Hardwood Parity (“Petitioners”), made a timely request, pursuant to 19 CFR 351.205(b)(2) and (e), for a postponement of the preliminary determination, in order to allow additional time for the review of questionnaire responses.² Because there are no compelling reasons to deny the request, in accordance with section 733(c)(1)(A) of the Act, the Department is postponing the deadline for the preliminary determination by 50 days to no later than May 19, 2011. The deadline for the final determination will continue to be 75 days after the date of the preliminary determination, unless postponed.

² See Letter from Petitioners, Multilayered Wood Flooring from the People's Republic of China: Request of Postponement of Preliminary Determination, dated March 3, 2011.

This notice is issued and published pursuant to section 733(c)(2) of the Act and 19 CFR 351.205(f)(1).

Dated: March 7, 2011.
Ronald K. Lorentzen,
Deputy Assistant Secretary for Import Administration.

[FR Doc. 2011-5686 Filed 3-10-11; 8:45 am]

BILLING CODE 3510-DS-P